DEPARTMENT OF TRANSPORTATION

Federal Aviation Administration

14 CFR Part 71

[Docket No. FAA-2013-0775; Airspace Docket No. 13-ASW-19]

Establishment of Class E Airspace; Comanche, TX

AGENCY: Federal Aviation Administration (FAA), DOT.

ACTION: Final rule.

SUMMARY: This action establishes Class E airspace at Comanche, TX. Controlled airspace is necessary to accommodate Area Navigation (RNAV) Standard Instrument Approach Procedures (SIAP) at Comanche County-City Airport. The FAA found that SIAPs were established for the airport in 2006, but the Class E airspace area to contain it was never established, thereby prohibiting certain aircraft from using the procedures. This seriously impacts the safety and management of instrument flight rules (IFR) operations at the airport. As a result, a Notice to Airmen (NOTAM) has been issued suspending the use of the procedures until the Class E airspace area is established.

DATES: Effective date: 0901 UTC, November 14, 2013. The Director of the Federal Register approves this incorporation by reference action under 1 CFR Part 51, subject to the annual revision of FAA Order 7400.9 and publication of conforming amendments.

FOR FURTHER INFORMATION CONTACT: Scott Enander, Central Service Center, Operations Support Group, Federal Aviation Administration, Southwest Region, 2601 Meacham Blvd., Fort Worth, TX 76137; telephone 817-321-7716.

SUPPLEMENTARY INFORMATION:

History

In 2006, the RNAV (GPS) RWY 17 standard instrument approach procedure was established for Comanche County-City Airport, Comanche, TX. The FAA discovered that the Class E transitional airspace area required by 14 CFR 71.71(c) was not established to contain the procedure. As a result, a NOTAM has been issued to designate the SIAP as “Not Authorized” due to the lack of Class E airspace, prohibiting aircraft from using the SIAP until the required airspace can be established.

Because of this, aircraft are unable to land in instrument meteorological conditions, which adversely impacts the utility and the safe and efficient use of the airport. Business aircraft based at Comanche County-City Airport incur added costs when diverting to alternate airports during poor weather conditions, and recreational and tourist flights have to be cancelled, creating negative effects on the local economy. This also restricts lifesaving aeromedical evacuation aircraft, which are forced to add critical flight time to their missions to land at alternate airports during periods of low ceilings and visibility as the nearest alternate airport with instrument approach capability is 20 miles away.

It is in the public interest to restore IFR operations at Comanche County-City Airport as soon as possible to enhance the safe and efficient use of airspace at the airport and ensure that any critical medical evacuation operations are not delayed. Therefore, I find that notice and public procedure under 5 U.S.C. 553(b) is impracticable and contrary to the public interest.

The Rule

This action amends Title 14 Code of Federal Regulations (14 CFR) part 71 by establishing Class E airspace extending upward from 700 feet above the surface within an 8.7-mile radius of Comanche County-City Airport, Comanche, TX to contain aircraft executing standard instrument approach procedures at the airport. Controlled airspace enhances the safety and management of IFR operations at the airport.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the U.S. Code. Subtitle 1, Section 106, describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it establishes controlled airspace at Comanche County-City Airport, Comanche, TX.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9X, Airspace Designations and Reporting Points, dated August 7, 2013, and effective September 15, 2013, is amended as follows:

Paragraph 6005 Class E Airspace Areas Extending Upward From 700 Feet or More Above the Surface

* * * * *

ASW TX E5 Comanche, TX [New]

Comanche County-City Airport, TX

(Lat. 31°55′13″ N., long. 98°35′57″ W.)

That airspace extending upward from 700 feet above the surface within an 8.7-mile radius of Comanche County-City Airport.

Issued in Fort Worth, Texas, on September 25, 2013.
Christopher L. Southerland,
Manager, Operations Support Group, ATO Central Service Center.

[FR Doc. 2013-24149 Filed 10-2-13; 8:45 am]

BILLING CODE 4910-13-P